DEPARTMENT OF LABOR

Mine Safety and Health Administration

30 CFR Parts 56 and 57

Definition for Multipurpose Dry-Chemical Fire Extinguisher

AGENCY: Mine Safety and Health Administration (MSHA), Labor.

ACTION: Technical amendment.

SUMMARY: This technical amendment moves the definition for multipurpose dry-chemical fire extinguisher in subparts C and E of 30 CFR parts 56 and 57 to the general definitions section in subpart A of these parts. This action is necessary to eliminate confusion regarding compliance with the requirements for multipurpose dry-chemical fire extinguishers caused by it having two definitions, one in subpart A and a different one in subparts C and E.

EFFECTIVE DATES: May 30, 2003.

FOR FURTHER INFORMATION CONTACT: Marvin W. Nichols, Director; Office of Standards, Regulations, and Variances, MSHA; Phone: (202) 693-9440; FAX: (202) 693-9441; E-mail: nichols-marvin@msha.gov.

SUPPLEMENTARY INFORMATION:

Regulatory History

The definition for multipurpose dry-chemical fire extinguisher in subpart A of existing 30 CFR 56/57.2 states—

Multipurpose dry-chemical fire extinguisher means a listed or approved multipurpose dry-chemical fire extinguisher having a minimum rating of 2-A:10-B:C, by Underwriters Laboratories, Inc., and containing a minimum of 4.5 pounds of dry-chemical agent.

In 1985, MSHA promulgated a final rule [50 FR 4022] revising its “Fire Prevention and Control” standards for metal and nonmetal mines in subpart C of 30 CFR parts 56 and 57. The definition for multipurpose dry-chemical fire extinguisher in final §§ 56/57.4000 states—

An extinguisher having a rating of at least 2-A:10-B:C and containing a nominal 4.5 pounds or more of dry-chemical agent.

In 1991, MSHA promulgated a final rule [56 FR 46508] revising its “Explosives” standards for metal and nonmetal mines in subpart E of 30 CFR parts 56 and 57. The definition for multipurpose dry-chemical fire extinguisher in final §§ 56/57.6000 of “Subpart E—Explosives” is identical to that contained in §§ 56/57.4000 of “Subpart C—Fire Prevention and Control.”

With the publication of the final rules for “Subpart C—Fire Prevention and Control” and “Subpart E—Explosives,” the definition for multipurpose dry-chemical fire extinguisher in subpart A became irrelevant because this term is used only in subparts C and E.

Discussion of Changes

The definition for multipurpose dry-chemical fire extinguisher in subpart A (§§ 56/57.2) differs from the one in subpart C (§§ 56/57.4000) and subpart E (§§ 56/57.6000) in two ways. First, the definition in subpart A uses the word “minimum” instead of “nominal” in characterizing the amount of dry-chemical agent required. The preamble to the final rule for “Subpart C—Fire Prevention and Control,” however, states that—

* * * Because fire equipment manufacturers designate the weight of dry-chemical agent in an extinguisher by “nominal” weight rather than by “minimum” weight, the final rule uses the term “nominal” and clarifies that the nominal weight must be 4.5 pounds or more.

Second, the definition in subpart A specifies that the multipurpose dry-chemical fire extinguisher be “listed or approved * * * by Underwriters Laboratories, Inc.” The preamble to the final rule for “Subpart C—Fire Prevention and Control,” however, states that—

The final rule defines multipurpose dry-chemical fire extinguishers as those meeting at least the nationally recognized criteria for extinguishers with a 2-A:10-B:C rating. * * * Approval organizations, such as the Underwriters Laboratories, Inc. and Factory Mutual Research Corporation test and list fire extinguishers meeting this rating.

Although the more recent definition in subparts C and E differs slightly from subpart A, the intent of the definition remains the same. This disparity, however, has created confusion for some fire extinguisher manufacturers and mine inspectors.

To eliminate any confusion and redundancy, this technical amendment (1) replaces the outdated and unnecessary definition for multipurpose dry-chemical fire extinguisher in subpart A of 30 CFR parts 56 and 57 with the most current definition from subparts C and E of these parts; and (2) removes the redundant definitions of multipurpose dry-chemical fire extinguisher from subparts C and E.

List of Subjects in 30 CFR Parts 56 and 57

Fire prevention, Mine safety and health.

Dated: May 16, 2003.
John R. Correll,
Acting Assistant Secretary of Labor for Mine Safety and Health.

For the reasons set out in the preamble, and under the authority of the Federal Mine Safety and Health Act of 1977, MSHA is amending chapter I, parts 56 and 57 of title 30 of the Code of Federal Regulations as follows:

PART 56—[AMENDED]

1. The authority citation for part 56 continues to read as follows:

Authority: 30 U.S.C. 811.

2. Section 56.2 is amended by revising the definition for Multipurpose dry-chemical fire extinguisher to read as follows:

§ 56.2 Definitions.

* * * * *

Multipurpose dry-chemical fire extinguisher means an extinguisher having a rating of at least 2-A:10-B:C and containing a nominal 4.5 pounds or more of dry-chemical agent.

3. Section 56.4000 is amended by removing the definition for Multipurpose dry-chemical fire extinguisher.

4. Section 56.6000 is amended by removing the definition for Multipurpose dry-chemical fire extinguisher.

PART 57—[AMENDED]

5. The authority citation for part 57 continues to read as follows:

Authority: 30 U.S.C. 811.

6. Section 57.2 is amended by revising the definition for Multipurpose dry-chemical fire extinguisher to read as follows:

§ 57.2 Definitions.

* * * * *

Multipurpose dry-chemical fire extinguisher means an extinguisher having a rating of at least 2-A:10-B:C and containing a nominal 4.5 pounds or more of dry-chemical agent.

* * * * *

7. Section 57.4000 is amended by removing the definition for Multipurpose dry-chemical fire extinguisher.

8. Section 57.6000 is amended by removing the definition for Multipurpose dry-chemical fire extinguisher.

[FR Doc. 03-13498 Filed 5-22-03; 8:45 am]

BILLING CODE 4510-43-P